ELECTION ASSISTANCE COMMISSION

Sunshine Act; Notice of Virtual Public Forum for EAC Board of Advisors

Date & Time: Monday, April 26, 2010, 9 a.m. EDT through Friday, April 30, 2010, 9 p.m. EDT.

Place: EAC Board of Advisors Virtual Meeting Room at http://www.eac.gov. Once at the main page of EAC's Web site, viewers should click the link to the Board of Advisors Virtual Meeting Room. The virtual meeting room will open on Monday, April 26, 2010, at 9 a.m. EDT and will close on Friday, April 30, 2010, at 9 p.m. EDT. The site will be available 24 hours per day during that 5-day period.

Purpose: The EAC Board of Advisors will review and provide comment on a draft version of the EAC Recounts and Contests study. The draft version contains information about the laws and procedures each State uses to govern recounts, contests, and standards for what constitutes a valid vote. The study includes best practices that States use with respect to recounts and contests.

The EAC Board of Advisors Virtual Meeting Room was established to enable the Board of Advisors to conduct business in an efficient manner in a public forum, including being able to review and comment on draft documents, when it is not feasible for an in-person board meeting. The Board of Advisors will not take any votes or propose any resolutions during the 5-day forum of April 26-April 30, 2010. Members will post comments about the draft version of the Recounts and Contests study.

This activity is open to the public. The public may view the Proceedings of this special forum by visiting the EAC board of advisors virtual meeting room at http://www.eac.gov at any time between Monday, April 26, 2010, 9 a.m. EDT and friday, April 30, 2010, 9 p.m. EDT. The public also may view Recounts and Contests, which will be posted on EAC's Web site beginning April 26, 2010. The public may file written statements to the Eac board of advisors at boardofadvisors@eac.gov. Data on EAC's Web site is accessible to visitors with disabilities and meets the requirements of section 508 of the rehabilitation act.

Person to Contact for Information: Bryan Whitener, Telephone: (202) 566-3100.

Signed:
Gracia Hillman,
Commissioner, U.S. Election Assistance Commission.

[FR Doc. 2010-8171 Filed 4-6-10; 4:15 pm]

BILLING CODE 6820-KF-P